DEPARTMENT OF TRANSPORTATION

Federal Aviation Administration

Passenger Facility Charges; Applications, etc.: T.F. Green State Airport, RI

Notice of Intent to Rule on Application to impose and use the revenue from a passenger facility charge (PFC) at T. F. Green State Airport, Warwick, Rhode Island for projects at T. F. Green State Airport, Warwick, Rhode Island; Block Island State Airport, New Shoeham, Rhode Island; North Central State Airport, Smithfield, Rhode Island; Quonset State Airport, North Kingstown, Rhode Island and Westerly State Airport, Westerly, Rhode Island.

AGENCY: Federal Aviation Administration (FAA), DOT.

ACTION: Notice of intent to rule on application.

SUMMARY: The FAA proposes to rule and invites public comment on the application to impose and use the revenue from a PFC at T.F. Green State Airport under the provisions of the Aviation Safety and Capacity Expansion Act of 1990 (Title IX of the Omnibus Budget Reconciliation Act of 1990) (Public Law 101-508) and Part 158 of the Federal Aviation Regulations (14 CFR part 158).

DATES: Comments must be received on or before September 25, 2000.

ADDRESSES: Comments on this application may be mailed or delivered in triplicate to the FAA at the following address: Federal Aviation Administration, Airports Division, 12 New England Executive Park, Burlington, Massachusetts 01803.

In addition, one copy of any comments submitted to the FAA must be mailed or delivered to Ms. Elaine Roberts, at the following address: Executive Director of Airports, Rhode Island Aviation Corporation, T.F. Green State Airport, 2000 Post Road, Warwick, Rhode Island, 02886.

Air carriers and foreign air carriers may submit copies of written comments previously provided to the Rhode Island Airport Corporation under section 158.23 of part 158 of the Federal Aviation Regulations.

FOR FURTHER INFORMATION CONTACT: Priscilla A. Scott, PFC Program Manager, Federal Aviation Administration, Airports Division, 12 New England Executive Park, Burlington, Massachusetts 01803, (781) 238-7614. The application may be reviewed in person at 16 New England Executive Park, Burlington, Massachusetts.

SUPPLEMENTARY INFORMATION: The FAA proposes to rule and invites public comment on the application to impose and use the revenue from a PFC at T. F. Green State Airport under the provisions of the Aviation Safety and Capacity Expansion Act of 1990 (Title IX of the Omnibus Budget Reconciliation Act of 1990) (Public Law 101-508) and Part 158 of the Federal Aviation Regulations (14 CFR Part 158).

On August 9, 2000, the FAA determined that the application to impose and use the revenue from a PFC submitted by Rhode Island Airport Corporation was substantially complete within the requirements of section 158.25 of Part 158. The FAA will approve or disapprove the application, in whole or in part, no later than November 27, 2000.

The following is a brief overview of the application.

PFC Project #: 00-03-C-00-PVD

Level of the proposed PFC: $3.00

Proposed charge effective date: April 1, 2008

Proposed charge expiration date: August 1, 2012

Total estimated PFC revenue: $41,689,000

Brief description of proposed impose and use projects:

T.F. Green State Airport

Noise Mitigation Land Acquisition, North Ramp Rehabilitation, PFC Application Costs

Brief description of proposed impose projects:

T.F. Green State Airport,

New Airfield Maintenance Facility

Ticket Counter Expansion

Block Island State Airport

Expansion of Apron and Construct Taxiway to Runway 10

North Central State Airport

Rehabilitation of Apron

Quonset State Airport

Rehabilitation of Apron

Westerly State Airport

Rehabilitation of Apron and Taxiways B and C

Class or classes of air carriers which the public agency has requested to be required to collect PFCs: On demand Air Taxi/Commercial Operators (ATCO).

Any person may inspect the application in person at the FAA office listed above under FOR FURTHER INFORMATION CONTACT.

In addition, any person may, upon request, inspect the application, notice and other documents germane to the application in person at the Rhode Island Airport Corporation.

Issued in Burlington, Massachusetts on August 14, 2000.
Vincent A. Scarano,
Manager, Airports Division, New England Region.

[FR Doc. 00-21640 Filed 8-23-00; 8:45 am]

BILLING CODE 4910-13-M